DEPARTMENT OF THE INTERIOR

Bureau of Indian Affairs

[234A2100DD/AAKC001030/A0A501010.999900]

Advisory Board of Exceptional Children

AGENCY: Bureau of Indian Affairs, Interior.

ACTION: Notice of meeting.

SUMMARY: The Bureau of Indian Education (BIE) is announcing that the Advisory Board for Exceptional Children will hold a two-day meeting, in-person and online. The purpose of the meeting is to meet the mandates of the Individuals with Disabilities Education Act of 2004 (IDEA) for Indian children with disabilities.

DATES: The BIE Advisory Board meeting will be held Thursday, September 21, 2023, from 8:00 a.m. to 4:30 p.m., Eastern Daylight Time (EDT); and continue on Friday, September 22, 2023, from 8:00 a.m. to 4:30 p.m., Eastern Daylight Time (EDT).

ADDRESSES:

• Meeting: All Advisory Board activities will be conducted in-person and online. The onsite meeting location will be at the Crystal City Marriott, 1999 Richmond Highway, Arlington, Virginia. See the SUPPLEMENTARY INFORMATION section of this notice for information on how to join the meeting.

• Comments: Public comments can be emailed to the DFO at Jennifer.davis@bie.edu; or faxed to (602) 265-0293 Attention: Jennifer Davis, DFO; or mailed or hand delivered to the Bureau of Indian Education, Attention: Jennifer Davis, DFO, 2600 N Central Ave., 12th Floor, Suite 250, Phoenix, AZ 85004.

FOR FURTHER INFORMATION CONTACT: Jennifer Davis, Designated Federal Officer, Bureau of Indian Education, 2600 N Central Ave., 8th Floor, Suite 250, Phoenix, AZ 85004, Jennifer.Davis@bie.edu, or mobile phone (202) 860-7845. Individuals in the United States who are deaf, deafblind, hard of hearing, or have a speech disability may dial 711 (TTY, TDD, or TeleBraille) to access telecommunications relay services.

SUPPLEMENTARY INFORMATION: The Advisory Board was established under the Individuals with Disabilities Act of 2004 (20 U.S.C. 1400 et seq.) to advise the Secretary of the Interior, through the Assistant Secretary-Indian Affairs, on the needs of Indian children with disabilities. The meeting is open to the public in their entirety.

Meeting Agenda Items

The following agenda items will be for the meeting on September 21, 2023, and September 22, 2023. The reports are regarding special education topics.

• Office of Special Education Programs (OSEP). How can OSEP more directly support the BIE's work in providing special education services that result in positive outcomes for children with disabilities across the BIE school system.

• Office of the Secretary of the Interior. As the Secretary of the Interior, how do you ensure that all American Indian and Alaska Native children receive an equitable education?

• BIE-Office of the Director. Provide updates on rural school internet access and include any challenges and potential resolves to the issues from BIE.

• BIE Human Resources Office. During board meetings we consistently hear from Bureau Operated School (BOS) administrators that delays in the hiring process cost schools qualified hires. Can greater responsibility be provided to local school hiring authorities?

• BIE Division of Performance and Accountability, (DPA)/BIE Special Education Program. Provide an update on IDEA, ESSA, and the Government Accountability Office (GAO) recommendations report.

• Associate Deputy Director (ADD), Regions for Bureau Operated Schools (BOS), Navajo Schools (BOS & TCS) and Tribally Controlled Schools (TCS)/Special Education Programs: What services do you provide for BIE funded schools? Provide an update on the 2022-2023 school year. Discuss the successes, challenges, ongoing goals, and other items that would be pertinent to the Advisory Board.

• Advisory Board members will work on finalizing the 2023 Annual Report.

• Advisory Board members will develop the agenda for the next board meeting scheduled for January 18-19, 2024.

• Four Public Commenting Sessions will be provided during both meeting days.

○ On Thursday, September 21, 2023, two sessions (15 minutes each) will be provided, 11:00 a.m. to 11:15 a.m. EDT and 2:00 p.m. to 2:15 p.m. EDT. Public comments can be provided via webinar or telephone conference call. Please use the online access codes as listed below.

○ On Friday, September 22, 2023, two sessions (15 minutes each) will be provided, 9:30 a.m. to 9:45 a.m. EDT and 12:15 a.m. to 12:30 a.m. EDT. Public comments can be provided during the meeting or telephone conference call. Please register for each meeting day to obtain the online meeting access codes as listed below.

○ Public comments can also be emailed to the DFO at Jennifer.Davis@bie.edu; or faxed to (602) 265-0293 Attention: Jennifer Davis, DFO; or mailed or hand delivered to the Bureau of Indian Education, Attention: Jennifer Davis, DFO, 2600 N Central Ave., 12th Floor, Suite 250, Phoenix, Arizona 85004.

Online Meeting Access

To attend the Advisory Board meeting on September 21-22, 2023, please register using this link: https://www.zoomgov.com/meeting/register/vJItf-2prTkjHQm8iBckGVMexfylXaLrHlo and register. Attendees register once and can attend one or both meeting events. After registering, you will receive a confirmation email containing information about joining the meeting.

Accessibility Request

Please make requests in advance for sign language interpreter services, assistive listening devices, or other reasonable accommodations. Please contact the person listed in the section titled FOR FURTHER INFORMATION CONTACT at least seven (7) business days prior to the meeting to give the Department of the Interior sufficient time to process your request. All reasonable accommodation requests are managed on a case-by-case basis.

Authority: 5 U.S.C. ch. 10.

Bryan Newland,
Assistant Secretary—Indian Affairs.

[FR Doc. 2023-18913 Filed 8-31-23; 8:45 am]

BILLING CODE 4337-15-P